DEPARTMENT OF TRANSPORTATION

Federal Aviation Administration

14 CFR Part 39

Raytheon Aircraft Company Beech Models 45 (YT-34), A45 (T-34A, B-45), and D45 (T-34B) Airplanes; Notice of Public Meeting

AGENCY: Federal Aviation Administration, DOT.

ACTION: Notice of public meeting.

SUMMARY: This document announces a public meeting of interest to owners and operators of Raytheon Aircraft Company (Raytheon) Beech Models 45 (YT-34), A45 (T-34A, B-45), and D45 (T-34B) airplanes. The purpose of the meeting is to discuss technical issues and potential corrective actions related to the continued operational safety of the affected airplanes, specifically related to the structural fatigue of critical structure and Airworthiness Directive (AD) 2004-25-51.

DATES: The Federal Aviation Administration (FAA) will hold the public meeting on Tuesday, February 15, 2005, starting at 1 p.m. at the Hilton Airport Hotel in Kansas City, Missouri, and continuing from 8 a.m. to 12:30 p.m. on Wednesday, February 16, 2005. Registration will begin at 12:30 p.m. on the day of the meeting.

ADDRESSES: We will hold the public meeting at the Hilton Airport Hotel, 8801 NW., 112th Street, Kansas City, Missouri 64153; telephone (816) 891-8900.

If you are unable to attend, you may mail comments and information to FAA, Small Airplane Directorate, Continued Operational Safety Branch, ACE-113, 901 Locust, Room 301, Kansas City, Missouri 64106. You may also send comments electronically to the following addresses: marvin.nuss@faa.gov or steven.litke@faa.gov. If you send comments electronically as attached electronic files, the files must be formatted in Microsoft Word 97 for Windows or ASCII text.

We will give the same consideration to any comments or information mailed to us as those presented at the public meeting.

FOR FURTHER INFORMATION CONTACT: • For Requests to Present a Statement at the Meeting: Contact Marvin Nuss, Aerospace Engineer, FAA, Small Airplane Directorate, 901 Locust, Room 301, Kansas City, Missouri 64106; telephone: (816) 329-4117; facsimile: (816) 329-4090; e-mail: marvin.nuss@faa.gov.

• For Questions Regarding the Previously Proposed ADs: Contact Steven Litke, Aerospace Engineer, FAA, Wichita Aircraft Certification Office, 1801 Airport Road, Mid-Continent Airport, Wichita, Kansas 67209; telephone: (316) 946-4127; facsimile: (316) 946-4107.

• For Requests for Special Accommodations: Contact Scott Wessley, AD Coordinator, FAA, Small Airplane Directorate, 901 Locust, Room 301, Kansas City, Missouri 64106; telephone: (816) 329-4148; facsimile: (816) 329-4149.

SUPPLEMENTARY INFORMATION:

Participation at the Public Meeting

What must I do to make a presentation at the meeting? If you would like to make a presentation at the meeting, make your request to FAA no later than 10 days prior to the meeting. Submit these requests to Mr. Marvin Nuss as listed in the FOR FURTHER INFORMATION CONTACT section of this document. You should include a written summary of your presentation with a time estimate of your presentation.

Will FAA prepare an agenda? We will prepare an agenda for this meeting. To accommodate all presenters, we may allocate less time for your presentation than you requested. If you request to present after the deadline, we will schedule your presentation as time is available. However, your name may not appear on the agenda.

What if I need special equipment? You should include in your presentation request any special audiovisual equipment that you need. We will accommodate reasonable requests.

Background

Why is FAA conducting this meeting? On December 7, 2004, the left wing of a Raytheon Beech Model A45 (T-34A), serial number G-13, separated from the airplane in flight. The airplane, operated by Texas Air Aces, crashed near Montgomery, Texas. The wing was found about a quarter mile away from the crash site.

The left wing center section failed 4 inches inboard of the forward wing attach fitting. FAA investigation revealed visual evidence of fatigue not previously addressed by Airworthiness Directive (AD) 2001-13-18 and AD 2001-13-18 R1, which FAA issued as a result of a 2003 accident near Conroe, Texas.

In November 2003, a Raytheon Beech Model A45 (T34A) airplane crashed after the right wing failed at Wing Station (WS) 34 on the forward spar and WS 66.00 on the rear spar. The airplane, operated by Texas Air Aces, crashed near Conroe, Texas. The wing was found about a quarter mile away from the crash site.

On May 28, 1999, FAA issued priority letter AD 99-12-02 to address the in-flight separation of the right wing on a Model A45 (T-34A) airplane. The airplane, operated by Sky Warriors, crashed near Rydall, Georgia, where the wing was found about a quarter mile away from the crash site. The left wing remained attached to the airplane following separation of the right wing. Examination of the right wing revealed structural fatigue cracks at several of the fracture surfaces. Although it did not separate from the airplane, the left wing showed several fatigue cracks at several locations. AD 99-12-02 required operating and speed restrictions on the affected airplanes and was superseded by AD 2001-13-18.

Based on all data on these accidents including the additional visual evidence of fatigue not previously addressed by AD 2001-13-18 or AD 2001-13-18 R1, FAA issued emergency AD 2004-25-51. This emergency AD required an inspection and/or modification program approved specifically for this AD by FAA Wichita Aircraft Certification Office (ACO). In essence, AD 2004-25-51 grounded the T-34 fleet because of evidence of fatigue in locations not evaluated from the first two accidents. The FAA took this action until the situation could be more fully understood and proper actions taken to ensure the continued airworthiness of the fleet.

All the technical aspects of this aging airplane issue need to be studied and understood in order for FAA to return the fleet to an airworthy status. The FAA will review and communicate (at the meeting) the events leading to emergency AD 2004-25-51 and the reasons for our action. The FAA will also provide its expectations for any actions the public may propose to restore the fleet to an airworthy and safe condition.

The meeting will allow the public the opportunity to discuss technical issues and communicate potential corrective actions related to the continued operational safety of the affected airplanes, specifically related to the structural fatigue of critical structure and AD 2004-25-51.

Public Meeting Procedures

What procedures should I follow for this public meeting? If you plan to attend the public meeting, please be aware of the following:

• There is no admission fee or other charge to attend or participate in this meeting. You are responsible for your own transportation and accommodations for the meeting. The meeting is open to all who requested in advance to present or who register on the day of the meeting. This is subject to availability of space in the meeting room.

• FAA representatives will conduct the meeting. We will have a panel of technical experts and managers to discuss information on the subject.

• The public meeting is intended as a forum to seek additional data and supporting methodologies from industry, the general public, and operators. You must limit your presentation and submittals to data of this issue.

• The meeting will allow you to present additional information not currently available to FAA and an opportunity for FAA to explain to you the methodology and technical assumptions that support our conclusions.

• FAA experts, industry, and public participants are expected to hold a full discussion of all technical material presented at the meeting. If you present conclusions on this subject, you must submit data that supports your conclusions.

• We will try and accommodate all speakers. In order to do this, we may need to limit the time for presenters.

• We can make sign and oral interpretation available at the meeting, as well as an assistive listening device. If you need this assistance, make your request to FAA at least 10 days prior to the public meeting.

• We will review and consider all material presented. Position papers or materials may be accepted at the discretion of the presiding officer. The FAA requests that you provide 10 copies of all materials for distribution to the panel members. You have the choice on whether you want to present copies of the material to the audience.

• The meetings are designed to solicit public views and information. Therefore, we will conduct the meeting in an informal and nonadversial manner.

Issued in Kansas City, Missouri, on January 10, 2005.
Scott L. Sedgwick,
Acting Manager, Small Airplane Directorate, Aircraft Certification Service.

[FR Doc. 05-894 Filed 1-14-05; 8:45 am]

BILLING CODE 4910-13-P